DEPARTMENT OF HEALTH AND HUMAN SERVICES

Office of the National Coordinator; American Health Information Community Biosurveillance Data Steering Group Meeting

ACTION: Announcement of meeting.

SUMMARY: This notice announces the first meeting of the American Health Information Community Biosurveillance Data Steering Group in accordance with the Federal Advisory Committee Act (Pub. L. No. 92-463, 5 U.S.C., App.).

DATES: July 7, 2006 from 10 a..m. to 2 p.m.

ADDRESSES: Mary C. Switzer Building (330 C Street, SW., Washington, DC 20201), Conference Room 4090.

FOR FURTHER INFORMATION CONTACT: http://www.hhs.gov/healthit/ahic.html.

SUPPLEMENTARY INFORMATION: The Biosurveillance Data Steering Group must convene in early July 2006 in advance of the final deliverable from the Health Information Technology Standards Panel related to the Biosurveillance Use Case.

The meeting will be available via internet access. Go to http://www.hs.gov/healthit/ahic.html for additional information on the meeting.

Judith Sparrow,
Director, American Health Information Community, Office of Programs and Coordination, Office of the National Coordinator.

[FR Doc. 06-6113 Filed 7-10-06; 8:45 am]

BILLING CODE 4150-24-M